FEDERAL COMMUNICATIONS COMMISSION

47 CFR Part 2

[ET Docket Nos. 00-258 and 95-18, IB Docket No. 99-81; FCC 01-224]

Introduction of New Advanced Mobile and Fixed Terrestrial Wireless Services; Use of Frequencies Below 3 GHz

AGENCY: Federal Communications Commission.

ACTION: Final rule.

SUMMARY: This document resolves issues raised in petitions for reconsideration of a prior Commission decision adopting a band arrangement for the 1990-2025 MHz and 2165-2200 MHz Mobile Satellite Service bands. The action is taken to coordinate our actions in this proceeding with various pending matters involving the Mobile Satellite Service and to respond to the outstanding petitions.

DATES: Effective September 13, 2001.

FOR FURTHER INFORMATION CONTACT: John Spencer, 202-418-1310.

SUPPLEMENTARY INFORMATION: This is a summary of the Memorandum Opinion and Order (MO&O) portion of the Commission's Memorandum Opinion and Order and Further Notice of Proposed Rulemaking in ET Docket No. 00-258, ET Docket No. 95-18, and IB Docket No. 99-81, adopted August 9, 2001, and released August 20, 2001. The Further Notice of Proposed Rulemaking portion of this decision is published elsewhere in this edition of the Federal Register. The complete text of this Memorandum Opinion and Order and Further Notice of Proposed Rulemaking is available for inspection and copying during normal business hours in the FCC Reference Information Center, Courtyard Level, 445 12th Street, S.W., Washington, DC, and also may be purchased from the Commission's copy contractor, Qualex International, Portals II, 445 12th Street, SW, Room CY-B402, Washington, DC 20554.

Synopsis of the MO&O

1. In this MO&O, together with the associated Further Notice of Proposed Rulemaking, the Commission continues to explore possible use of frequency bands below 3 GHz to support the introduction of new advanced mobile and fixed terrestrial wireless services (advanced wireless services), including third generation (3G) and future generations of wireless systems. The MO&O resolves in part two petitions for reconsideration of decisions the Commission made in a Report and Order in August 2000 (R&O), which adopted licensing and service rules for the 2 GHz Mobile Satellite Service (MSS), and which provided spectrum for all then-pending systems. The R&O can be found at 65 FR 59140, October 4, 2000. Two parties, Globalstar, L.P. (Globalstar) and Final Analysis Communication Services, Inc. (Final Analysis) filed timely requests for reconsideration of the R&O.

2. Globalstar sought reconsideration of the Commission's decisions that two blocks of 3.5 megahertz each is a sufficient minimum amount of spectrum for each operator, to defer establishing a mechanism for redistributing abandoned spectrum, and not to adopt Globalstar's proposed “all-shared” licensing arrangement. Final Analysis argued that the Commission should have made abandoned spectrum available not just for 2 GHz MSS systems proposing voice (among other) services, but to all MSS proponents, including those proposing or providing exclusively non-voice services. Globalstar and Final Analysis also sought reconsideration of the Commission's decision to reserve spectrum for system expansion by systems that target service to unserved areas. Final Analysis asked that eligibility to apply for the expansion spectrum not be limited to 2 GHz MSS systems, and that other MSS systems be permitted to apply for the reserved spectrum.

3. The MO&O grants in part Globalstar's and Final Analysis's petitions for reconsideration. Specifically, the Commission reconsiders the decision in the R&O to defer “until after achievement of each of our system implementation milestones” evaluation of whether to redistribute abandoned spectrum or make it available to new entrants. The Commission also reconsiders its decision to reserve a segment of the 2 GHz MSS spectrum for system expansion.

4. The MO&O denies, however, Globalstar's petition for reconsideration insofar as it sought adoption of its “all-shared” licensing arrangement. The MO&O also denies Final Analysis's request for reconsideration of the Commission's decision to defer the issue of enhanced 911 (E911) requirements for 2GHz MSS proponents until the matter can be more appropriately addressed in the Global Mobile Personal Communications by Satellite Proceeding. (See Notice of Proposed Rulemaking in IB Docket No. 99-67, 64 FR 16687, April 6, 1999.)

Ordering Clauses

5. The petition for reconsideration of the 2 GHZ MSS R&O filed by Globalstar, L.P. is granted to the extent indicated and is otherwise denied.

6. The petition for reconsideration of the 2 GHz MSS R&O filed by Final Analysis Communications Services, Inc., is granted to the extent indicated and is otherwise denied.

Federal Communications Commission.
Magalie Roman Salas,
Secretary.

[FR Doc. 01-23046 Filed 9-12-01; 8:45 am]

BILLING CODE 6712-01-P